DEPARTMENT OF HEALTH AND HUMAN SERVICES

Office of the Secretary; Solicitation of Nominations for Four Vacancies on the Health and Human Services Advisory Committee on Minority Health

AGENCY: Office of Public Health and Science, Office of Minority Health, HHS.

ACTION: Solicitation of nominations for four vacancies on the HHS Advisory Committee on Minority Health.

Authority: Section 1707(c) of the Public Health Service Act directs the Secretary to establish the Advisory Committee on Minority Health. The Committee is also governed by the Federal Advisory Committee Act (5 U.S.C. Appendix 2), which sets forth standards for the formulation and use of advisory committees.

SUMMARY: The Secretary, DHHS, signed the charter establishing the HHS Advisory Committee on Minority Health (the Committee) on September 17, 1999, and the charter was renewed on September 14, 2001. This Committee advises and makes recommendations to the Secretary on improving the health of racial and ethnic minority groups and development of goals and specific program activities. This notice requests nominations for four vacancies on the Committee beginning December 2002.

DATES: Nominations for members will be considered if we receive them at the appropriate address, as provided below, no later than 5:00 P.M. EST on May 15, 2002.

ADDRESSES: You may mail or deliver nominations for membership to the following address: Sheila Pack Merriweather, Division of Policy and Data, Office of Minority Health, 5515 Security Lane, Suite 1000, Rockville, MD 20852. Nominations will not be accepted by e-mail or by facsimile.

A request for a copy of the Secretary's charter for the Advisory Committee and list of current members can be obtained from the Office of Minority Health Resource Center, P.O. Box 37337, Washington, DC 20013-7337, telephone 1-800-444-6472, TDD 301-589-0951, e-mail: info@omhrc.gov. The charter and list of current members can also be downloaded from the Office of Minority Health Resource Center Web site at http://www.omhrc.dhhs.gov.

FOR FURTHER INFORMATION CONTACT: Sheila Pack Merriweather at (301) 443-9923; fax—301-443-8280; e-mail—smerriweather@osophs.dhhs.gov

SUPPLEMENTARY INFORMATION:

I. Background

The Advisory Committee advises the Secretary on improving the health of racial and ethnic minorities and developing goals and specific program activities. These activities include, but are not limited, to the following:

(1) Establish short-range and long-range goals and objectives and coordinate all other activities within the Public Health Service that relate to disease prevention, health promotion, service delivery, and research concerning such individuals.

(2) Enter into interagency agreements with other agencies of the Public Health Service.

(3) Support research, demonstrations, and evaluations to test new and innovative models.

(4) Increase knowledge and understanding of health risk factors.

(5) Develop mechanisms that support better information dissemination, education, prevention, and service delivery to individuals from disadvantaged backgrounds, including individuals who are members of racial and ethnic minority groups.

(6) Ensure that the National Center for Health Statistics collects data on the health status of each minority group.

(7) With respect to individuals who lack proficiency in speaking the English language, enter into contracts with public and nonprofit private providers of primary health services for the purpose of increasing the access of individuals to such services by developing and carrying out programs to provide bilingual or interpretive services.

(8) Support a national minority health resource center to carry out the following:

(A) Facilitate the exchange of information regarding matters relating to health information and health promotion, preventive health services, and education in the appropriate use of health care.

(B) Facilitate access to information.

(C) Assist in the analysis of issues and problems relating to such matters.

(D) Provide technical assistance with respect to the exchange of such information (including facilitating the development of materials of such technical assistance).

(9) Carry out programs to improve access to health care services for individuals with limited proficiency in speaking the English language. Activities under the preceding sentence shall include developing and evaluating model projects.

II. Nominations

The Office of Minority Health (OMH) is requesting nominations to fill four vacancies for voting members to serve on the Advisory Committee. The Committee consists of 12 voting members appointed by the Secretary from among racial and ethnic minorities, defined as Black or African American, Hispanic/Latino, American Indian/Alaska Native, Asian American, and Native Hawaiian or Pacific Islander, who have expertise regarding issues of minority health. The racial and ethnic minority groups will be equally represented among the voting members. Employees or officers of the Federal Government may not serve as voting members, except that the Secretary may also appoint employees of the DHHS to serve as ex-officio, non-voting members.

OMH is seeking nominations of persons from a wide-array of fields including but not limited to: Public health and medicine; health administration and financing; behavioral and social sciences; immigration and rural health; health law and economics; cultural and linguistic competency; and biomedical ethics and human rights. Demonstrated expertise regarding issues of minority health, such as: Access to care; data collection and analysis; health professions development; cultural competency; and eliminating disparities in cancer, cardiovascular diseases, infant mortality, HIV infection/AIDS, child and adult immunization, diabetes, substance abuse, homicide, suicide, unintentional injuries, and other diseases and health conditions is also required.

Nominations must state that the nominee is willing to serve as a member of the Advisory Committee and appears to have no conflict of interest that would preclude membership. Potential candidates are required to provide detailed information concerning such matters as financial holdings, consultancies, and research grants or contracts to permit evaluation of possible sources of conflict of interest.

Members shall be appointed for a term of four years. Committee members will be compensated for the time they spend in Committee meetings (including travel time) as well as per diem costs.

Any interested person may nominate one or more qualified persons. Self-nominations will also be accepted.

III. Nomination Forms

Nomination forms may be obtained by contacting the Office of Minority Health Resource Center, PO Box 37337, Washington, DC 20013-7337, telephone 1-800-444-6472, TDD 301-589-0951, e-mail: info@omhrc.gov. Nomination forms may also be downloaded from the Office of Minority Health Resource Center Web site, http://www.omhrc.dhhs.gov. All nominations and curricula vitae for the Advisory Committee should be sent to Sheila Pack Merriweather at the address in this notice.

Dated: January 31, 2002.
Nathan Stinson, Jr.,
Deputy Assistant Secretary for Minority Health.

[FR Doc. 02-3571 Filed 2-13-02; 8:45 am]

BILLING CODE 4150-29-P